DEPARTMENT OF TRANSPORTATION

Pipeline and Hazardous Materials Safety Administration

Hazardous Materials: Actions on Special Permit Applications

AGENCY: Office of Hazardous Materials Safety, Pipeline and Hazardous Materials Safety Administration (PHMSA), DOT.

ACTION: Notice of actions on special permit applications.

SUMMARY: In accordance with the procedures governing the application for, and the processing of, special permits from the Department of Transportation's Hazardous Material Regulations (49 CFR part 107, subpart B), notice is hereby given of the actions on special permits applications in (October to October 2014). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on February 16, 2016.
Don Burger,
Chief, General Approvals and Permits.

Modification Special Permit Granted
S.P No. | Applicant | Regulation(s) | Nature of special permit thereof
15972-M | EnTrans International, LLC, Athens, TN | 49 CFR 178.345-2, 178.346-2, 178.347-2, 178.348-2, and 178.345-3 | To modify the special permit to authorize additional various DOT 400 series cargo tanks and company name change.
14833-M | Takata AG Aschaffenburg | 49 CFR 173.301(a), 173.302a, 175.3 and 178.65(f)(2) | To modify the special permit by removing the restriction on cylinder diameters and water capacities, modify the shipping description for UN3268 and add the description Safety devices, pyrotechnic, Division I.4G, UN0503.
14692-M | Airgas USA, LLC, Tulsa, OK | 49 CFR 180.209 | To modify the special permit to increase the maximum cycling (fillings) of each cylinder in a 10 year period to 600 from 300 cycles (fillings).
11624-M | Belshire Transportation Services, Inc., Foothill Ranch, CA | 49 CFR 173.173(b)(2) | To modify the special permit to authorize Class 8, PG II and PG III hazardous materials.
8178-M | National Aeronautics & Space Administration (NASA), Washington, DC | 49 CFR 173.302(a); 173.34(d); 175.3 | To modify the special permit by extending the service life of the cylinder from 32 years to 43 years.
16337-N | Volkswagen Group of America (VWGoA), Herndon, VA | 49 CFR 172.102(c)(2), Special Provision A54, ICAO TI Special Provision A99 | To authorize the transportation in commerce of certain lithium ion batteries each with weight greater than 35 kg by cargo aircraft only. (mode 4)
16371-N | Volkswagen Group of America (VWGoA), Herndon, VA | 49 CFR 172.102(c)(2), Special Provision A54, 173.185(b), ICAO TI Packing Instruction 965, Section IA.2, paragraph 3, ICAO TI Special Provision A99 | To authorize the transportation in commerce of lithium ion batteries each exceeding 35 kg net weight when transported aboard cargo aircraft. (mode 4)
16516-N | Exosent Engineering, LLC, College Station, TX | 49 CFR 178.315 | To authorize the manufacture, mark, sale and use of non-DOT specification cargo tanks manufactured to ASME Section XII stamped with a “T” Stamp instead of the “U” stamp. (mode 1)
16532-N | Kinsbursky Brothers Supply Inc., Anaheim, CA | 49 CFR 173.185(f) | To authorize the transportation in commerce of certain damaged or defective lithium ion cells and batteries in alternative packaging. (modes 1, 2)
16563-N | Call2Recycle, Inc., Atlanta, GA | 49 CFR Subparts C through H of Part 172, 173.185(f) | To authorize the manufacture, mark, sale and use of UN specification packaging for the transportation in commerce of damaged, defective, or recalled lithium ion cells and batteries and lithium metal cells and batteries and these cells or batteries contained in equipment. (modes 1, 2, 3)
16596-N | Great Slave Helicopters Ltd., Yellowknife, Canada, NT | 49 CFR 172.101 Hazardous Materials Table Column (9B), Subpart C of Part 172, 172.301(c), 175.30, Part 173 | To authorize transportation in commerce in the U.S. only of certain hazardous materials by Rotorcraft External Load Operations transporting hazardous materials attached to or suspended from an aircraft without being subject to certain hazard communication requirements, quantity limitations, packaging and loading and storage requirements. (mode 4)
16592-N | Stericycle Specialty Waste Solutions, Inc., Minneapolis, MN | 49 CFR Subparts A, B, D, and E of Part 173 | To authorize the transportation in commerce of certain Drug Enforcement Administration (DEA) controlled substances transported for the purpose of disposal. (mode 1)
16461-N | Coastal Hydrotesting LLC, Baltimore, MD | 49 CFR 172.203(a), 172.301(c), 173.302a(b), 180.205 | To authorize the use of certain Specification DOT cylinders 3A, 3AA, 3AL, and DOT special permit cylinders DOT-SP 9001, DOT-SP 9370, DOT-SP 9421, DOT-SP 9706, DOT-SP 9791, DOT-SP 9909, DOT-SP 10047, DOT-SP 10869, DOT-SP 11692, and DOT-SP 12440 used for the transportation in commerce of certain compressed gases, when retested by a 100% ultrasonic examination in lieu of the internal visual and the hydrostatic retest required in 49 CFR 180.205. (modes 1, 2, 3, 4, 5)
16469-N | ACS UE Testing LLC, Denver, CO | 49 CFR 172.203(a), 172.301(c), 180.205 | To authorize the use of certain Specification DOT cylinders DOT 3A, 3AA, 3AL, and DOT special permit cylinders DOT-SP 9001, DOT-SP 9370, DOT-SP 9421, DOT-SP 9706, DOT-SP 9791, DOT-SP 9909, DOT-SP 10047, DOT-SP 10869, DOT-SP 11692, and DOT-SP 12440 used for the transportation in commerce of certain compressed gases, when retested by a 100% ultrasonic examination in lieu of the internal visual and the hydrostatic retest required in 49 CFR 180.205. (modes 1,2,3,4,5)
16624-N | AREVA Inc., Richland, WA | 49 CFR 173.301(a)(1) | To authorize the transportation in commerce of helium, compressed, in non-DOT specification pressure containers. (mode 1)
16625-N | Pelican Products, Inc., Torrance, CA | 49 CFR 173.185(f) | To authorize the transportation in commerce of lithium batteries in non-DOT specification packaging. (mode 1)
16627-N | Korean Air, Los Angeles, CA | 49 CFR 172.101 Column (9B), 172.204(c)(3), 173.27, and 175.30(a)(1) | To authorize the one-time transportation in commerce of certain explosives that are forbidden for transportation by cargo only aircraft. (mode 4)
16623-N | Kalitta Air, LLC, Ypsilanti, MI | 49 CFR 172.101 Hazardous Materials Table Column (9B), 173.27(b)(2), 175.30(a)(1) | To authorize the transportation in commerce of certain explosives that are forbidden for transportation by cargo only aircraft. (mode 4)
16542-N | Retriev Technologies, Inc., Lancaster, OH | 49 CFR 173.185(f) | To authorize the transportation in commerce of certain damaged lithium ion cells and batteries and lithium metal cells and batteries in alternative packaging. (modes 1, 2)
16567-N | Factory Mutual Insurance Company dba FM Global Research Campus, Gloucester, RI | 49 CFR 173.185(f) | To authorize the transportation in commerce of certain damaged or defective lithium ion cells and batteries in alternative. packaging. (mode 1)

[FR Doc. 2016-05692 Filed 3-16-16; 8:45 am]

BILLING CODE 4909-60-M